DEPARTMENT OF HOUSING AND URBAN DEVELOPMENT

[Docket No. FR-6072-N-01]

Notice of Intent To Prepare a Draft Environmental Impact Statement (EIS) for the NDRC Ohio Creek Watershed Project in Norfolk, Virginia

AGENCY: Office of the Assistant Secretary for Community Planning and Development, HUD.

ACTION: Notice of Intent to Prepare an EIS.

SUMMARY: The Commonwealth of Virginia, through the Virginia Department of Housing and Community Development (DHCD), is providing notice of its intent to prepare an Environmental Impact Statement (EIS) for the Ohio Creek Watershed Project located in the City of Norfolk, Virginia. The proposed project was developed as part of Virginia's application for assistance through the U.S. Department of Housing and Urban Development (HUD) under the National Disaster Resilience Competition (NDRC). NDRC's objectives through the competition are to support innovative resilience projects at a local level. This Notice of Intent to prepare an EIS represents the beginning of the public scoping process. Following the scoping meeting referenced below, a Draft EIS will be prepared and ultimately circulated for public comment.

FOR FURTHER INFORMATION CONTACT: For further information please contact Traci Munyan, Virginia Department of Housing and Community Development, Resiliency Program Manager, 600 East Main Street, Suite 300 Richmond, Virginia 23219; telephone number 804-371-7059, fax number 804-371-7093 or by email at: ResiliencyVA@dhcd.virginia.gov. A public scoping meeting will be held for this EIS on February 21, 2018 from 5:30 until 7:30 p.m. at the Grandy Village Learning Center, located at 2971 Kimball Loop Norfolk, VA 23504. The meeting will be proceeded by a notice of public meeting published in local news media at least 15 days prior to the meeting date. The scoping meeting will provide an opportunity for the public to learn more about the project and to provide input on the environmental process. During the meeting, an overview of the project will be provided as well as details on concept development.

SUPPLEMENTARY INFORMATION: The Ohio Creek Watershed Project, located in the City of Norfolk, was selected by HUD through the NDRC process and awarded Community Development Block Grant Disaster Recovery (CDBG-DR) funding. The proposed action is subject to compliance with the National Environmental Policy Act of 1969 (NEPA) because federal CDBG-DR funds would be used for design and construction. The Commonwealth of Virginia, acting through the Virginia Department of Housing and Community Development (DHCD), is the responsible entity assuming environmental responsibility for the Ohio Creek Watershed Project in accordance with HUD regulations at 24 CFR 58.1(b)(1) and 58.2(a)(7)(i).

This Notice of Intent to Prepare an EIS is given in accordance with the Council on Environmental Quality (CEQ) regulations at 40 CFR parts 1500-1508, and represents the beginning of the public scoping process outlined in 40 CFR 1501.7. Following the scoping meeting referenced above, a Draft EIS will be prepared and circulated for public comment. The Draft EIS will be circulated to the general public, as well as groups and government agencies that have been identified as having particular interest in the Proposed Project. A Notice of Availability will be published in local media outlets at that time in accordance with HUD and CEQ regulations.

The Ohio Creek Watershed project is located in Norfolk, Virginia. It is bounded by the Eastern Branch of the Elizabeth River to the south, the Interstate 264 area to the north, the Norfolk Southern railway to the east and a shipyard along with South Brambleton to the west. Due to its geographic position, Norfolk is faced with the threat of sea level rise. Nuisance flooding from high tides and rain events is becoming more frequent and the risk of inundation from storm surges is increasing. Compounding this threat is a high rate of subsidence. The Ohio Creek NDR project will pursue a multi-faceted, long-term approach to increase safety and resiliency by building coastal defense structures, improving stormwater management, raising critical access roads and infrastructure.

The proposed project consists of an innovative holistic regional resiliency approach that extends beyond infrastructure to encompass community and economic development. This approach is called “thRIVe: Resilience In Virginia” whose core goals are to Build Water Management Solutions, Strengthen Vulnerable Neighborhoods and Improve Economic Vitality. When combined, these goals are intended to Create Coastal Resilience and Unite the Region. Design components of the proposed project consist of: (1) Coastal protection to include a living shoreline and berm, (2) Stormwater management to include raised roads and tide gates, pump stations, bioswales, permeable pavers, rain barrels, and subsurface cisterns, (3) Landscape and Community Amenities to include corridor improvements for multi-modal transit, public pier for river access, stormwater parks to include amenities such as sports fields, playgrounds and fitness stations.

Several project elements have been selected to move to the next level of design. Design elevations of integrated coastal flood protection elements have been established to reduce inundation risk from 100-year events, including nor'easters, hurricanes and extreme tides with a projected sea level rise of +2.5 feet. These elements (berms, living shorelines, etc.) will be aligned to reduce risk for the maximum number of buildings and infrastructure that are most susceptible to coastal inundation.

Stormwater and tides are impounded by existing land bridges within the project site that result in flooding in the surrounding neighborhoods. Integration of tide gate structures into the coastal flood protection and raised roadways will maintain ecological function to wetlands while protecting the neighborhood from tidal flooding events. Ballentine Boulevard and Kimball Terrace are the only two vehicular access routes into the project area and they are both subject to storm surge flooding and nuisance flooding. Additionally, several roads within the community are impassable during heavy rain or high tides due to their low elevation or poor drainage. Raising these critical roads is a key component of the proposed project. Many of the roads will need to be raised to various elevations to work in conjunction with the coastal protection elements. Upgrades to the subsurface drainage systems as well as construction of coastal flood protection will necessitate the need for pump stations to discharge stormwater into the Eastern Branch of the Elizabeth River. Drainage system upgrades and additional water storage areas aim to reduce the number of pump stations needed.

Reducing flooding during 10-year rain events is also a principal project goal. Installation of a coastal protection and closing the drainage system to the tides necessitates finding opportunities to slow, store, and infiltrate stormwater. Street interventions are designed to reduce flooding risk, minimize pumping requirements, demonstrate green infrastructure techniques, increase pedestrian access and safety, and beautify neighborhoods. Ballentine Boulevard connects the neighborhood from the river northward to the larger city. A TIDE light rail station is located north of the I-264 underpass and provides connection to the city's light rail system. The Ballentine Boulevard corridor functions as a connector at both a neighborhood and a city scale making it a prime location for the expansion of multi-modal transportation opportunities. The corridor also allows for opportunities to demonstrate innovative stormwater strategies through the use of bioswales along sidewalks, permeable pavers at the edge of streets, in parking lanes and at intersections. Improvements to the corridor would create continuous and improved sidewalk conditions, allowing for both pedestrian and cyclist access from the I-264 underpass to the Eastern Branch of the Elizabeth River, terminating in a public pier. Corridor improvements tie into proposed stormwater parks to provide increased recreational and educational opportunities. Stormwater parks incorporate bioswale plantings with native water plants located in areas where the swale can be expanded to help slow and filter stormwater runoff before it reaches the Eastern Branch of the Elizabeth River. Though stormwater parks will be designed to maximize storage, they can also be educational and created in a way that serves as a destination for Norfolk residents by providing premier opportunities for outdoor sports, play, and fitness for citizens of all ages.

Alternatives to the Proposed Action: Consistent with the Council on Environmental Quality regulations (40 CFR 1502.14) implementing NEPA, the EIS will examine a range of reasonable alternatives to the proposed project that are potentially feasible. As required by NEPA, the alternatives will be evaluated at the same level of detail as the proposed project. As a result of the scoping efforts to date, the alternatives currently proposed for evaluation in the EIS include:

(1) No Project/Action Alternative. This required alternative would evaluate the environmental impacts if the proposed project were not constructed and existing conditions remain unchanged.

(2) Preferred Alternative. The alternative attaining the most objectives of the project that can be accomplished while also substantially lessening significant environmental effects.

(3) Two other alternatives (to be identified) based on input received during the scoping process and feasible project alternatives that avoid or minimize significant environmental effects.

Probable Environmental Effects: The following topics have been identified for analysis in the EIS for probable environmental effects: coastal zone management, contamination and toxic substances, floodplain management, historic preservation, noise abatement and control, wetlands protection, environmental justice, hazards and nuisances (site safety and noise), vibration, and transportation and accessibility.

Lead Agency: For purposes of complying with NEPA and in accordance with HUD regulations at 24 CFR part 58, the Commonwealth of Virginia, acting through the Virginia Department of Housing and Community Development, is the Lead Agency and Responsible Entity assuming environmental responsibility for the Ohio Creek Watershed Project. Questions may be directed to the individual named in this notice under the heading FOR FURTHER INFORMATION CONTACT.

Dated: December 12, 2017.
Neal J. Rackleff,
Assistant Secretary.

[FR Doc. 2017-27194 Filed 12-15-17; 8:45 am]

BILLING CODE 4210-67-P